DEPARTMENT OF HEALTH AND HUMAN SERVICES

Centers for Disease Control and Prevention

Health Promotion and Diabetes Prevention Projects for American Indian/Alaska Native (AI/AN) Communities: Adaptations of Practical Community Environmental Indicators

Announcement Type: New.

Funding Opportunity Number: RFA AA029.

Catalog of Federal Domestic Assistance Number: 93.945.

Key Dates: Letter of Intent Deadline (LOI): June 23, 2005.

Application Deadline: July 8, 2005.

I. Funding Opportunity Description

Authority: Public Health Service (PHS) Act, as amended, sections 317(k)(2), 42 U.S.C. 247b(k)(2).

Background

Type 2 diabetes was rare among American Indians until the 1950s, so uncommon that some scientists believed that indigenous people might have some type of immunity to it. In the past 50 years, diabetes has become one of the most common and serious illnesses among American Indians and Alaska Natives (AI/AN). In 2002, the age-adjusted prevalence of diabetes was 15.3 percent among AI/AN adults, in contrast to seven point three percent for the overall U.S. population (August 1, 2003, MMWR). If not controlled over time, diabetes can damage every organ in the body, diminishing the quality and the length of life. The explanations for high rates of diabetes among indigenous North American peoples, however, are not limited to recent societal trends, environmental changes and deliberate lifestyle choices. They are rooted in historical legacies of forced dispossession of their lands, culture, and language. Understanding and acknowledging the complex array of factors involved in diabetes causation and care are important steps in addressing this disease. Culturally-sensitive, community-based prevention interventions, coupled with committed tribal leadership and aggressive clinical programs for risk reduction, are most likely to succeed in stabilizing and eventually reducing the rates of chronic disease in Native communities. Many communities are developing, implementing and evaluating such ecological prevention approaches, which recognize the history, cultural and environmental contributions to high rates of diabetes. These approaches include multiple individual, family, community, and policy interventions that are expected to have positive impact for current and future generations. Multi-level, broad-spectrum approaches to the prevention of diabetes take time to yield results, and can be challenging to sustain the engagement of communities over time.

However, limited practical environmental prevention interventions for diabetes on a community level may have some unique benefits. These benefits may include supplementing multi-level programs by creating an environment supportive of the broader, long-term approaches. Limited practical environmental interventions may also help garner the community's interest in identifying opportunities for environmental adaptations and tracking the progress of community indicators. Incremental progress in improving environmental indicators identified by the community as contributing risk factors for diabetes can have several positive results. For example, they may help to increase community knowledge, confidence in health practices and dispel hopelessness about the devastating impacts of diabetes. Such approaches maintain momentum toward steady progress in identified community health goals and/or health promotion activities.

This program will provide support for community-based and culturally appropriate practical environmental interventions for health promotion and diabetes prevention. These interventions will target practical environmental indicators identified by the community as contributing to risk factors for diabetes. The projects will collaborate with existing local diabetes programs and other community organizations (e.g., schools, supermarkets, restaurants). The interventions will focus on environmental factors that can be adapted and measured by community-level indicators. These indicators can reflect behavioral, policy, or practice adaptations by the community and/or its members. The indicators do not involve evaluation of individual behavior or outcomes and do not require human subject approvals.

The prevention interventions proposed (environmental adaptations) to be implemented by the communities can be measured in various ways. For example, by economic means (e.g., purchase rates of foods), environmental (e.g., increased number of walking paths, increased use of fitness facilities, use of pedometers at pow-wows/community dances) or process measures (e.g., school menus meeting nutritional guidelines). Other examples of practical environmental adaptations may include: (1) The presence or absence of low-fat, low-sugar food alternatives in vending machines in public buildings; (2) the proportion of restaurant menu items that follow nutritional guidelines; (3) miles of walking trails per capita; or (4) purchase rate of regular soda, or of water bottles, in all stores on a reservation or within a designated community, per month. The three year project period includes year one for program and evaluation planning. Interventions will be implemented and measured over a period of two years.

The projects will also assist other national, regional (including states), and international partners of CDC/Division of Diabetes Translation (DDT), as well as other NCCDPHP grantees, in documenting community-based public health interventions that reduce the risk of diabetes and other chronic diseases.

Purpose

The purpose of the program is to strengthen local capacity of AI/AN communities in implementing limited, practical community environmental interventions for health promotion and diabetes prevention. The Indian Health Service (IHS) estimates that 60 percent of Native Americans live in urban settings and the remaining on or near reservation lands. Native American communities have the highest rates of diabetes, poverty and other health disparities. Many tribal communities (including urban settings) maintain strong cultural traditions, foods and practices. All of the eligible entities provide health promotion and/or disease prevention services to AI/AN populations either under specific legal or legislative mandate. Programs that serve AI/AN populations are attuned to the specific cultural traditions, practices, history, and health status. This program addresses the “Healthy People 2010” focus area of diabetes (5), which is aimed at addressing health disparities among racial and ethnic minority populations.

Measurable outcomes of the program will be in alignment with one (or more) of the following performance goal(s) for the National Center for Chronic Disease Prevention and Health Promotion (NCCDPHP): Diabetes—Goal: Increase the capacity of state diabetes control programs to address the prevention of diabetes and its complications at the community level, and Nutrition—Goal: Decrease levels of obesity, or reduce the rate of growth of obesity in communities through nutrition and physical activity interventions.

This announcement is only for non-research activities supported by CDC/ATSDR. If research is proposed, the application will not be reviewed. For the definition of research, please see the CDC Web site at the following Internet address: http://www.cdc.gov/od/ads/opspoll1.htm.

Activities

Awardee activities for this program are as follows:

• Develop a three year action plan (year one planning, years two to three implementation) for a limited practical community environmental health promotion/diabetes prevention intervention project. Action plan should describe the Project Implementation process. Action plan should include objectives that are specific, measurable, achievable, relevant and time-phased. The implementation process may be guided by a community action organization, collaboration, or a group of partners to plan and implement a community-wide environmental intervention project.

○ If such partnerships or collaborations are already in place, provide a description of how they intend to expand their scope to include the implementation of the intervention project.

○ Relevant partnerships working closely with and developing collaborations for the community intervention may include tribal and/or Indian Health Service (IHS) programs, tribal epidemiological centers, State and local health departments (including Diabetes Prevention and Control Programs). Local, regional tribal colleges or universities or colleges with significant numbers of Native students may be included. Collaborations may also include other partners to share resources and information that could strengthen the program.

○ Action plan should focus on developing and implementing a community-wide prevention intervention strategy for a specified population group (e.g., children, adolescents, young adults, middle aged adults or for the elderly).

○ Action plan for the community intervention should include mechanisms for information sharing, interactive group activities and ongoing quality improvement process. The community intervention should include culturally appropriate behavioral, policy, and community approaches to diabetes prevention.

• Applicants must attend two grantee meetings per year. The budget submitted should reflect travel costs for the project coordinator/director and the evaluator attending the two meetings per year. Location (hotel) and time frame for the meetings will be provided after award. However, meetings will generally be held in Albuquerque, New Mexico.

• Applicants must participate in an evaluation of the community intervention. Each grantee shall secure the services of a qualified local project evaluation consultant with training and experience in evaluation of community-based programs. The grantee shall work with the CDC staff and evaluation consultants to develop local process measures and generic outcome measures.

• It is anticipated that up to 10 percent of grant funds will be required to procure the local evaluation consultant. Applicants will also be required to employ a part-time data collection/data entry employee for the project.

• Other costs in conjunction with the evaluation of the project may include training (onsite and off-site), conference calls and information sharing using email and/or faxing materials.

• Participate in community-wide programs; the programs may include:

○ Identification of one to three environmental issues that community members have stated need to be addressed in order to promote health and help to prevent diabetes. There should be some record that this has been noted as an issue that needs addressing. This may include local newspapers, Tribal Council meetings, Town Hall meetings, or Radio programs.

○ Plans for a community forum that allows dialogue and confirms that these are worthwhile environmental concerns that require adaptation. It may be necessary to reduce a longer list of concerns for this project.

○ Pair the limited set of community-level adaptations to indicators for which baseline data is available and which can be tracked at regular intervals over time.

○ Community programs would inform their community about the program and its goals and the baseline data for the adaptation indicators. The program would establish a time frame and setting to share with their progress with the community. The settings could include regular programs on the radio station, monthly newspaper reports or newsletter mailings, one or more graph or “thermometer” type billboards or central-place posters that track progress.

○ A community gathering is held to close the project with accounting of the progress by indicators and dialogue about next steps.

In a cooperative agreement, CDC staff is substantially involved in the program activities, above and beyond routine grant monitoring.

CDC Activities for this program are as follows:

• In collaboration with the recipients, provide training on developing community capacity on health promotion and diabetes primary prevention strategies (e.g., building scientific capacity, collaboration and partnerships, implementing guidelines on model programs on diabetes prevention).

• Provide technical assistance through site visits, conference calls, resource materials, strategic planning and updated information, as needed.

• Facilitate communications locally, regionally, and nationally regarding resources and other opportunities involving the implementation of the action plan activities. This includes coordinating two grantee meetings annually for the coordinators and evaluators of each project.

• Provide technical assistance, evaluation capacity and leadership in the evaluation of grantee action plan activities. The CDC evaluation consultants will assist the grantees in developing local process measures and generic outcome measures.

• Facilitate linkages with state and tribal programs, Indian Health Service and Tribal Epidemiological Centers.

• Provide guidance, as requested, on reporting and documenting effectiveness of action plan and activities.

II. Award Information

Type of Award: Cooperative Agreement.

CDC involvement in this program is listed in the Activities Section above.

Fiscal Year Funds: 2005.

Approximate Total Funding: $525,000 (This amount is an estimate, and is subject to availability of funds.)

Approximate Number of Awards: Five to Seven.

Approximate Average Award: $75,000-$100,000 (This amount is for the first 12-month budget period, and includes both direct and indirect costs.)

Floor of Award Range: $75,000.

Ceiling of Award Range: $100,000 (This ceiling is for the first 12-month budget period.)

Anticipated Award Date: August 31, 2005.

Budget Period Length: 12 months.

Project Period Length: Three years.

Throughout the project period, CDC's commitment to continuation of awards will be conditioned on the availability of funds, evidence of satisfactory progress by the recipient (as documented in required reports), and the determination that continued funding is in the best interest of the Federal Government.

III. Eligibility Information

III.1. Eligible Applicants

Eligible applicants are:

• AI/AN tribal governments and corporations, and other organizations that qualify under the Indian Civil Rights Act.

• State Charter Tribes.

• Urban Indian Health Programs.

• Indian Health Boards.

• Inter-Tribal Councils.

• Eligible urban tribal and inter-tribal consortia.

Eligibility is limited to the aforementioned applicants because they have the necessary knowledge of, experience, and capability/capacity to work within the AI/AN communities to perform the required activities.

Applicants must provide a copy of a tribal resolution specific to this project from the tribe, or letter of support from the board if a tribal organization. If there is insufficient time to procure such a resolution prior to submitting the application, the resolution must be submitted within six months after award. Place this documentation behind the first page of your application form.

III.2. Cost Sharing or Matching

Matching funds are not required for this program.

III.3. Other

If you request a funding amount greater than the ceiling of the award range, your application will be considered non-responsive, and will not be entered into the review process. You will be notified that your application did not meet the submission requirements.

Special Requirements: If your application is incomplete or non-responsive to the special requirements listed in this section, it will not be entered into the review process. You will be notified that your application did not meet submission requirements.

• Late applications will be considered non-responsive. See section “IV.3. Submission Dates and Times” for more information on deadlines.

• Urban tribal and inter-tribal consortia are eligible if incorporated for the primary purpose of improving AI/AN health and representing such interests for the tribes, Alaska Native Villages and corporations, or urban Indian communities located in its region. AI/AN tribes or urban communities represented may be located in one state or in multiple states. An urban tribal organization is defined as a non-profit corporate body situated in an urban center eligible for services under Title V of the Indian Health Care Improvement Act, Pub. L. 94-437, as amended. Proof of non-profit status 501(c)(3) should be provided as an appendix in the application.

• Tribal resolution or letters of support from the board of a tribal organization must be provided as described.

• Note: Title 2 of the United States Code section 1611 states that an organization described in section 501(c)(4) of the Internal Revenue Code that engages in lobbying activities is not eligible to receive Federal funds constituting an award, grant, or loan.

IV. Application and Submission Information

IV.1. Address To Request Application Package

To apply for this funding opportunity use application form PHS 5161-1. CDC strongly encourages you to submit your application electronically by utilizing the forms and instructions posted for this announcement at http://www.grants.gov. Application forms and instructions are available on the CDC Web site, at the following Internet address: http://www.cdc.gov/od/pgo/forminfo.htm.

If you do not have access to the Internet, or if you have difficulty accessing the forms online, you may contact the CDC Procurement and Grants Office Technical Information Management Section (PGO-TIM) staff at: 770-488-2700. Application forms can be mailed to you.

IV.2. Content and Form of Submission

Letter of Intent (LOI): Your LOI must be written in the following format:

• Maximum number of pages: Two.

• Font size: 12-point unreduced.

• Single spaced.

• Paper size: 8.5 by 11 inches.

• Page margin size: One inch.

• Printed only on one side of page.

• Written in plain language, avoid jargon.

Your LOI must contain the following information:

• A brief description of the applicant or applicant organization to confirm eligibility.

• A brief description of the proposed intervention to substantiate that it is responsive to this announcement.

• A brief description which demonstrates the applicant's capability and/or experience with community interventions, diabetes prevention and/or health promotion activities.

Application: You must submit a Project Narrative with your application forms. The narrative must be submitted in the following format:

• Maximum number of pages: 25. If your narrative exceeds the page limit, only the first pages which are within the page limit will be reviewed.

• Font size: 12 point unreduced.

• Single spaced.

• Paper size: 8.5 by 11 inches.

• Page margin size: One inch.

• Printed only on one side of page.

• Held together only by rubber bands or metal clips; not bound in any other way.

Your narrative should address activities to be conducted over the entire project period, and must include the following items in the order listed:

• Statement of need

○ Describe the community demographics, location and brief history of diabetes burden and response both locally and for the state.

○ Describe the local resource organizations in the community.

○ Describe the local health and fitness resources available to the project (see Criteria for more detailed descriptions).

• Project Plan

○ Describe how the project is to be implemented, including the roles of partners and staff to be hired.

○ Describe objectives and activities (including responsible staff or partners).

○ Provide a timeline describing the entire project period.

○ Identify target population(s) for the project.

○ Describe potential problems/barriers to the implementation/success of the project and identify solutions.

• Organizational Capacity

○ Describe existing community infrastructure that addresses diabetes directly (i.e., diabetes treatment providers or prevention services) and indirectly (i.e., media and other organizations that can provide public health service).

○ Describe evidence of successful program management experience (see Criteria for more detail).

○ Describe experience with other federal, state or private grants.

○ Describe staffing to be devoted to the project, their roles and/or tasks, required experience and training and time commitment.

○ Provide position descriptions for key personnel (local project coordinator, evaluation consultant and data collection/data entry employee), including time commitment for each.

○ Describe data collection experience and capacity for data storage.

• Local Evaluation Capacity

○ Develop measurable and feasible local process and outcome measures for project activities and objectives.

○ Describe evaluation experience with current or past community projects.

○ State willingness to work with CDC evaluation consultants in developing generic outcome measures.

○ Show evidence of having secured or plans to secure a qualified local evaluation consultant and part-time employee to conduct data collection and data entry (e.g., resume, position description).

• Budget Justification (will not be counted in the stated page limit).

Additional information may be included in the application appendices. The appendices will not be counted toward the narrative page limit. This additional information includes:

• Position descriptions for local evaluator and data collection/data entry employee.

• Curriculum Vitae/Resume of key personnel—project director, evaluator (if identified).

• Tribal resolution or letter of support from the board of a tribal organization.

• Documentation of current tribal indirect cost agreement.

You are required to have a Dun and Bradstreet Data Universal Numbering System (DUNS) number to apply for a grant or cooperative agreement from the Federal Government. The DUNS number is a nine-digit identification number, which uniquely identifies business entities. Obtaining a DUNS number is easy and there is no charge. To obtain a DUNS number, access http://www.dunandbradstreet.com or call 1-866-705-5711. For more information, see the CDC Web site at: http://www.cdc.gov/od/pgo/funding/pubcommt.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

LOI Deadline Date: June 23, 2005. CDC requests that you send a LOI if you intend to apply for this program. Although the LOI is not required, not binding, and does not enter into the review of your subsequent application, the LOI will be used to gauge the level of interest in this program, and to allow CDC to plan the application review.

Application Deadline Date: July 8, 2005.

Explanation of Deadlines: Applications must be received in the CDC Procurement and Grants Office by 4 p.m. eastern time on the deadline date. You may submit your application electronically at http://www.grants.gov. Applications completed online through Grants.gov are considered formally submitted when the applicant organization's Authorizing Official electronically submits the application to http://www.grants.gov. Electronic applications will be considered as having met the deadline if the application has been submitted electronically by the applicant organization's Authorizing Official to Grants.gov on or before the deadline date and time.

If you submit your application electronically with Grants.gov, your application will be electronically time/date stamped, which will serve as receipt of submission. You will receive an e-mail notice of receipt when CDC receives the application.

If you submit your application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

If you submit a hard copy application, CDC will not notify you upon receipt of your submission. If you have a question about the receipt of your LOI or application, first contact your courier. If you still have a question, contact the PGO-TIM staff at: 770-488-2700. Before calling, please wait two to three days after the submission deadline. This will allow time for submissions to be processed and logged.

This announcement is the definitive guide on LOI and application content, submission address, and deadline. It supersedes information provided in the application instructions. If your submission does not meet the deadline above, it will not be eligible for review, and will be discarded. You will be notified that you did not meet the submission requirements.

IV.4. Intergovernmental Review of Applications

Executive Order 12372 does not apply to this program.

IV.5. Funding Restrictions

Restrictions, which must be taken into account while writing your budget, are as follows:

• Funds may not be used for research.

• Reimbursement of pre-award costs is not allowed.

• Construction.

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

IV.6. Other Submission Requirements

LOI Submission Address: Submit your LOI by express mail, delivery service, fax, or e-mail to: Maria E. Burns, Project Officer, CDC, NCCDPHP, DDT, PDB, NDWP, c/o 1720 Louisiana Blvd., NE, Suite 312, Albuquerque, New Mexico 87110, Telephone: (505) 240-0477, Fax: (505) 272-2824; e-mail address: mburns@cdc.gov.

Application Submission Address: CDC strongly encourages applicants to submit electronically at: http://www.grants.gov. You will be able to download a copy of the application package from http://www.grants.gov, complete it offline, and then upload and submit the application via the Grants.gov site. E-mail submissions will not be accepted.

If you are having technical difficulties in Grants.gov, they can be reached by e-mail at http:www.support@grants.gov or by phone at 1-800-518-4726 (1-800-518-GRANTS). The Customer Support Center is open from 7 a.m. to 9 p.m. eastern time, Monday through Friday.

CDC recommends that you submit your application to Grants.gov early enough to resolve any unanticipated difficulties prior to the deadline. You may also submit a back-up paper submission of your application. Any such paper submission must be received in accordance with the requirements for timely submission detailed in Section IV.3. of the grant announcement. The paper submission must be clearly marked: “Back-Up for Electronic Submission.” The paper submission must conform to all requirements for non-electronic submissions. If both electronic and back-up paper submissions are received by the deadline, the electronic version will be considered the official submission.

It is strongly recommended that you submit your grant application using Microsoft Office products (e.g., Microsoft Word, Microsoft Excel, etc.). If you do not have access to Microsoft Office products, you may submit a PDF file. Directions for creating PDF files can be found on the Grants.gov Web site. Use of file formats other than Microsoft Office or PDF may result in your file being unreadable by our staff.

Or: Submit the original and two hard copies of your application by mail or express delivery service to: Technical Information Management—RFA AA029, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this announcement. Measures must be objective, qualitative and quantitative, and must measure the intended process and outcome. These measures of effectiveness must be submitted with the application and will be an element of evaluation.

Your application will be evaluated against the following criteria:

• Project Plan (40 Points).

○ How adequate is the description of the project to be implemented? (e.g., are the roles of partners and staff to be hired included)—10 Points.

○ How comprehensive are proposed objectives and activities described? (e.g., are responsible partners or staff identified for all activities; will activities complete the project successfully, are the proposed methods feasible)—15 Points.

○ Is there a good description and justification for the identified project target population(s)?—5 Points.

○ Is the time line provided comprehensive? (i.e., does it identify proposed project activities and responsible staff, does the plan cover the entire project period)—5 Points.

○ How comprehensive is the plan in describing and identifying potential problem areas or barriers and proposing solutions? (e.g., changes in vending products, reluctance to changing school or restaurant menus, restricted use of designated existing fitness facilities)—5 Points.

• Statement of Need (25 Points).

○ Does the description provide an adequate baseline picture of the community? (e.g., demographics, location and brief history of local and state diabetes burden and response)—15 Points.

○ How comprehensive is the description of the local resource organizations relevant to the proposed plan? (e.g., health, educational, business)—5 Points.

○ How comprehensive is the description of community health and fitness resources? (e.g., number of current walking trails or fitness facilities and programs; existing community gardens; number and content of vending machines)—5 Points.

• Organizational Capacity (20 points).

○ Is there an adequate description of the infrastructure addressing diabetes? (e.g., local diabetes-specific programs, health education resources, community health coalition or other existing partnerships for health related concerns)—5 Points.

○ Is there adequate evidence provided of successful health program management capability?—2 Points.

○ How comprehensive is the description of experience with other Federal, State or private grants?— 2 Points.

○ How adequate is the description of the project staffing, their tasks/roles, required experience and training, and time commitment? (i.e., are the staff roles clearly defined; do key staff have sufficient experience and training required; is the time commitment for all staff sufficient to accomplish the program goals)—6 Points.

○ Are position descriptions for key personnel provided? Key personnel include the local evaluation consultant, local project director/coordinator (if noted), and data collection/data entry employee.—3 Points.

○ Is the data collection and storage capacity adequately described?—2 Points.

• Local Evaluation Capacity (15 Points).

○ How well do the process and outcome measures describe accomplishment of stated activities and objectives? (e.g., are they measurable objectives, is there a reasonable time frame for proposed project)?—5 Points.

○ Is there well-described evidence of experience of evaluation capacity with other Federal, State or private grants?—3 Points.

○ Is there stated willingness to collaborate with external CDC evaluation consultants?—4 Points.

○ Is evidence of commitment to securing a qualified local evaluator and data collection/entry employee well documented (e.g., letter of commitment/contract, position descriptions, resumes)?—3 Points.

V.2. Review and Selection Process

Applications will be reviewed for completeness by the Procurement and Grants Office (PGO) staff and for responsiveness by NCCDPHP. Incomplete applications and applications that are non-responsive to the eligibility criteria will not advance through the review process. Applicants will be notified that their application did not meet submission requirements.

A Special Emphasis Review Panel consisting of external experts will evaluate complete and responsive applications according to the criteria listed in the “V.1. Criteria” section above.

The review process will be directed by the Procurement and Grants Office (PGO) staff to ensure compliance with HHS and CDC grant review guidelines.

In addition, the following factors may affect the funding decision:

• Geographic diversity—Not more than one grant awarded per state.

• Rural and urban settings—A balanced mix of grants to Native populations living in urban settings and reservation/rural communities.

CDC will provide justification for any decision to fund out of rank order.

V.3. Anticipated Announcement and Award Dates

The anticipated award announcement date is August 31, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application. Unsuccessful applicants will receive notification of the results of the application review by mail.

VI.2. Administrative and National Policy Requirements

45 CFR part 74 and part 92. For more information on the Code of Federal Regulations, see the National Archives and Records Administration at the following Internet address: http://www.access.gpo.gov/nara/cfr/cfr-table-search.html.

The following additional requirements apply to this project:

• AR-9 Paperwork Reduction Act Requirements.

• AR-10 Smoke-Free Workplace Requirements.

• AR-11 Healthy People 2010.

• AR-12 Lobbying Restrictions.

• AR-14 Accounting System Requirements.

• AR-15 Proof of Non-Profit Status.

• AR-25 Release and Sharing of Data.

Additional information on these requirements can be found on the CDC Web site at the following Internet address: http://www.cdc.gov/od/pgo/funding/ARs.htm.

An additional Certifications form from the PHS 5161-1 application needs to be included in your Grants.gov electronic submission only. Refer to http://www.cdc.gov/od/pgo/funding/PHS5161-1Certificates.pdf. Once the form is filled out, attach it to your Grants.gov submission as Other Attachment Forms.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report, no more than 90 days after the end of the budget period.

3. Final financial and performance reports, no more than 90 days after the end of the project period.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341; Telephone: 770-488-2700.

For program technical assistance, contact: Maria E. Burns, Project Officer, c/o 1720 Louisiana Blvd., NE, Suite 208, Albuquerque, New Mexico 87110; Telephone: (505) 240-0477; e-mail: mburns@cdc.gov.

For financial, grants management, or budget assistance, contact: Tracey Sims, Grants Management Specialist, CDC Procurement and Grants Office, 2920 Brandywine Road, Atlanta, GA 30341; Telephone: 770/488-2739; e-mail: atu9@cdc.gov.

VIII. Other Information

This and other CDC funding opportunity announcements can be found on the CDC Web site, Internet address: http://www.cdc.gov. Click on “Funding” then “Grants and Cooperative Agreements.”

William P. Nichols,
Director, Procurement and Grants Office, Centers for Disease Control and Prevention.

[FR Doc. 05-10297 Filed 5-23-05; 8:45 am]

BILLING CODE 4163-18-P